DEPARTMENT OF THE INTERIOR

Bureau of Land Management

[NV-030-1610-DU]

Notice of Intent To Prepare an Amendment to the Carson City Field Office Consolidated Resource Management Plan

AGENCY: Bureau of Land Management, Interior.

ACTION: Notice of intent.

SUMMARY: This document provides notice that the Bureau of Land Management (BLM) intends to prepare a Resource Management Plan (RMP) amendment to address Lands and Land Tenure Issues, and Recreation and Travel Management. The appropriate state, tribal and local governments will be invited to participate as cooperating agencies.

DATES: All relevant public meetings will be announced through the local news media, newsletters, and the BLM Web site at http://www.nv.blm.gov/carson/ at least 15 days prior to the event. The minutes and list of attendees from each meeting will be available to the public and open for 30 days to any participant who wishes to clarify the views they expressed.

ADDRESSES: Comments should be addressed to Donald T. Hicks, Manager, Carson City Field Office, Bureau of Land Management, 5665 Morgan Mill Road, Carson City, NV 89701.

FOR FURTHER INFORMATION CONTACT: For further information and/or to have your name added to our mailing list, contact Desna Young, Environmental Planner at the Carson City Field Office, 775-885-6000. Documents pertinent to this proposal may be examined at the Carson City Field Office.

SUPPLEMENTARY INFORMATION: The proposed RMP amendment involves approximately 19,000 acres of public land in Alpine County, California. As part of the RMP amendment, an EA will be prepared to analyze designation of public lands suitable for retention, disposal by sale or exchange, or conveyance for community expansion purposes. Public lands needing access will be identified as well as lands with existing access that could be improved to permit easier access to the public. The EA will also analyze travel and management by designating road and trail routes on public land. Comments will be accepted throughout the RMP amendment and EA process. The plan amendment will fulfill the needs and obligations set forth by the National Environmental Policy Act (NEPA), the Federal Land Policy and Management Act (FLPMA), and BLM management policies. Comments, including names and street addresses of respondents, will be available for public review at the Carson City Field Office during regular business hours 7:30 a.m. to 5 p.m. Monday through Friday, except holidays, and may be published as part of the EA. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Dated: November 21, 2005.
Donald T. Hicks,
Manager, Carson City Field Office.

[FR Doc. E6-88 Filed 1-9-06; 8:45 am]

BILLING CODE 4310-HC-P